DEPARTMENT OF DEFENSE

Department of the Army, Corps of Engineers

Amendment to the Notice of Intent To Prepare an Environmental Impact Statement (EIS) for the Stabilization of the Bluff Toe at Norco Bluffs

AGENCY: U.S. Army Corps of Engineers, Los Angeles District, DOD.

ACTION: Notice of intent.

SUMMARY: The Los Angeles District intends to revise the EIS currently being prepared for stabilization of the toe bluff, along the Santa Ana River in the City of Norco, California, to address the internal levees within Prado Basin, the portion of the Santa Ana River immediately below Prado Dam, and the endangered species and critical habitat that have been designated since the original SEIS was released in August 1988. The revised EIS will be released as a Supplement to the August 1988 Phase II General Design Memorandum Main Report and Supplemental EIS for the Santa Ana Mainstem Including Santiago Creek, California. The SEIS will analyze potential impacts on the environment of a range of alternatives, including the recommended plan.

FOR FURTHER INFORMATION CONTACT: For further information contact Mr. Alex Watt by telephone at (213) 452-3860, or Ms. Hayley Lovan by telephone at (213) 452-3863. They may also be contacted by fax at (213) 452-4204, or by mail at the address below.

SUPPLEMENTARY INFORMATION: The Army Corps of Engineers is currently preparing an EIS to assess the environmental effects associated with the water conservation within the Prado Basin. This is a separate project, and is not associated with the flood control project that is being addressed in the SEIS. The public will have the opportunity to comment on this analysis before any action is taken to implement the proposed action.

Scoping: The U.S. Army Corps of Engineers will hold the scoping period open until March 1, 2000 to allow the public, as well as Federal, State, and local agencies to participate in the scoping process by submitting data, information, and comments identifying relevant environmental and socioeconomic issues to be addressed in the environmental analysis. Useful information includes other environmental studies, published and unpublished data, alternatives that should be addressed in the analysis, and potential mitigation measures associated with the proposed action.

Comments, suggestions, and requests to be placed on the mailing list for announcements and for the Draft EIS, should be sent to Alex Watt, U.S. Army Corps of Engineers, Los Angeles District, Attn: CESPL-PD-RQ, P.O. Box 532711, Los Angeles, CA 90053.

Availability of the Draft EIS: The Draft EIS is expected to be published and circulated in April 2000, and a public hearing to receive comments on the Draft EIS will be held after it is published.

Dated: February 4, 2000.
John P. Carroll,
Colonel, Corps of Engineers, District Engineer.

[FR Doc. 00-3390 Filed 2-11-00; 8:45 am]

BILLING CODE 3710-KF-M